FEDERAL MARITIME COMMISSION

Ocean Transportation Intermediary License Applicants

Notice is hereby given that the following applicants have filed with the Federal Maritime Commission an application for license as a Non-Vessel—Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel—Operating Common Carrier Ocean Transportation Intermediary Applicants

Ambiorix Cargo Express, Inc., 1416 Fulton Avenue, Bronx, NY 10456. Officers: Victor Rodriguez, President, (Qualifying Individual); Ambiorix Rodriguez, Secretary.

Atlantic Freight Services, Inc., 1068 Road, 28 Ports Zone Pueblo Viejo, San Juan, PR 00920. Officer: Ruben A. Rodriguez, President, (Qualifying Individual).

Ocean Freight Forwarder—Ocean Transportation Intermediary Applicant

JK Trading, Inc. dba Envios, 1756 SW 8th Street, Suite #207, Miami, FL 33135, Officers: Karen Duarte, President, (Qualifying Individual); Herbeth F. Duarte, Vice President.

Dated: November 10, 2005.
Bryant L. VanBrakle,
Secretary.

[FR Doc. 05-22745 Filed 11-15-05; 8:45 am]

BILLING CODE 6730-01-P